DEPARTMENT OF AGRICULTURE

Animal and Plant Health Inspection Service

[Docket No. APHIS-2007-0070]

Interstate Movement of Municipal Solid Waste From Hawaii; Availability of an Environmental Assessment

AGENCY: Animal and Plant Health Inspection Service, USDA.

ACTION: Notice of availability and request for comments.

SUMMARY: We are advising the public that the Animal and Plant Health Inspection Service has prepared a regional programmatic environmental assessment relative to requests to allow the interstate movement of municipal solid waste from Hawaii to landfills in the States of Idaho, Oregon, and Washington. The environmental assessment contains a general assessment of the potential environmental effects associated with moving garbage interstate from Hawaii to Idaho, Oregon, and Washington subject to certain pest risk mitigation measures and documents our review and analysis of the environmental impacts associated with, and alternatives to, such movements. We are making the environmental assessment available to the public for review and comment.

DATES: We will consider all comments that we receive on or before April 14, 2008.

ADDRESSES: You may submit comments by either of the following methods:

• Federal eRulemaking Portal: Go to http://www.regulations.gov/fdmspublic/component/main?main=DocketDetail&d=APHIS-2007-0070 to submit or view comments and to view supporting and related materials available electronically.

• Postal Mail/Commercial Delivery: Please send two copies of your comment to Docket No. APHIS-2007-0070, Regulatory Analysis and Development, PPD, APHIS, Station 3A-03.8, 4700 River Road, Unit 118, Riverdale, MD 20737-1238. Please state that your comment refers to Docket No. APHIS-2007-0070.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Shannon Hamm, Acting Deputy Administrator, Policy and Program Development, APHIS, 4700 River Road, Unit 20, Riverdale, MD 20737-1231; (301) 734-4957.

SUPPLEMENTARY INFORMATION:

Background

The importation and interstate movement of garbage is regulated by the Animal and Plant Health Inspection Service (APHIS) under 7 CFR 330.400 and 9 CFR 94.5 (referred to below as the regulations) in order to protect against the introduction into and dissemination within the United States of plant and animal pests and diseases.

APHIS has received several requests to transport baled municipal solid waste via barge from Hawaii to landfills in other States, including Idaho, Oregon, and Washington, and we recognize that it is possible that additional companies may request approval from APHIS for such activity in the future. Given that expectation, we believe it would be most efficient to comprehensively review the impacts of these potential municipal solid waste actions in a single regional programmatic environmental assessment of those connected and similar actions.

Therefore, we have prepared a regional programmatic environmental assessment, titled “Regional Movement of Plastic-baled Municipal Solid Waste from Hawaii to Washington, Oregon, and Idaho” (February 2008), that considers the movement of a cumulative maximum amount of baled municipal solid waste from the State of Hawaii to any qualified landfill in Washington, Oregon, or Idaho, under compliance agreements with APHIS and in accordance with the standards previously established by APHIS regarding baling, handling, spill response, and disposal.

As new requests to move municipal solid waste from Hawaii are received, a specific environmental analysis will be prepared relative to each request to determine whether the request is consistent with the environmental effects and impacts analyzed in our February 2008 regional programmatic environmental assessment. The specific environmental analysis prepared for each new request to move municipal solid waste will be made available for a 30-day public comment period, after which APHIS will announce its environmental and pest risk decision regarding the new municipal solid waste movement proposal. If a new petitioner's request were to result in exceeding the amount of municipal solid waste moved from Hawaii (either individually or cumulatively) or exceeding the number of barge trips or the amount of rail or truck traffic considered in our February 2008 regional programmatic environmental assessment, APHIS will amend the regional programmatic environmental assessment to analyze the potential impacts resulting from the changed conditions. The amended environmental assessment would be made available for public comment followed by an environmental and pest risk decision regarding the changed characteristics for the movement of municipal solid waste from Hawaii under the proposal.

We are making the regional programmatic environmental assessment available to the public for review and comment. We will consider all comments that we receive on or before the date listed under the heading DATES at the beginning of this notice. The environmental assessment may be viewed on the Internet on the Regulations.gov Web site or in our reading room (see ADDRESSES above for a link to Regulations.gov and for information on the location and hours of the reading room). You may request paper copies of the environmental assessment by calling or writing to the person listed under FOR FURTHER INFORMATION CONTACT. Please refer to the title of the document when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 7th day of March 2008.
Kevin Shea,
Acting Administrator, Animal and Plant Health Inspection Service.

[FR Doc. E8-5043 Filed 3-12-08; 8:45 am]

BILLING CODE 3410-34-P